DEPARTMENT OF COMMERCE

International Trade Administration, U.S. and Foreign Commercial Service; Application for the President's “E” Award and “E Star” Awards for Export Expansion

ACTION: Proposed collection; comment request.

SUMMARY: The Department of Commerce, as part of its continuing effort to reduce paperwork and respondent burden, invites the general public and other Federal agencies to take this opportunity to comment on the continuing information collections, as required by the Paperwork Reduction Act of 1995, Public Law 104-13 (44 U.S.C. 3506(2)(A)).

DATES: Written comments must be submitted on or before April 6, 2001.

ADDRESSES: Direct all written comments to Madeleine Clayton, Departmental Forms Clearance Officer, (202) 482-3129, Department of Commerce, Room 6086, 14th & Constitution Avenue, NW., Washington, DC 20230 (or via the Internet at Mclayton@doc.gov.)

FOR FURTHER INFORMATION CONTACT: Requests for additional information or copies of the information collection instrument and instructions should be directed to: Jesse Leggoe, Room 1107, Department of Commerce, 14th Street & Constitution Avenue, NW., Washington, DC 20230; phone (202) 482-3940, fax (202) 482-0729.

SUPPLEMENTARY INFORMATION:

I. Abstract

The President's “E” Award for Excellence in Exporting is our nation's highest award to honor American exporters. “E” Awards recognize firms and organizations for their competitive achievements in world markets, as well as the benefits of their success to the U.S. economy. The President's “E Star” Award recognizes the sustained superior international marketing performance of “E” Award winners.

II. Method of Collection

An application form is the vehicle designed to determine eligibility for the award within established criteria. The completed application is submitted to the appropriate U.S. Department of Commerce Export Assistance Center for review and endorsement, and then forwarded to the Office of Domestic Operations in the U.S. and Foreign Commercial Service, International Trade Administration, U.S. Department of Commerce, Washington, D.C., for processing.

III. Data

OMB Number: 0625-0065.

Form Number: ITA 725P.

Type of Review: Regular submission.

Affected Public: U.S. firms and organizations and American subsidiaries of foreign-owned or controlled corporations.

Estimated Number of Respondents: 60.

Estimated Time per Response: 27.4 hours.

Estimated Total Annual Burden Hours: 1644.

Estimated Total Annual Cost: $68,000.

IV. Requested for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 30, 2001.
Madeleine Clayton,
Departmental Forms Clearance Officer, Office of the Chief Information Officer.

[FR Doc. 01-2944 Filed 2-2-01; 8:45 am]

BILLING CODE 3510-FP-P